COMMISSION ON CIVIL RIGHTS

Sunshine Act Notice

AGENCY: United States Commission on Civil Rights.

ACTION: Notice of telephonic meeting.

DATE AND TIME: Sunday, July 21, 2013; 8:00 p.m. ET.

PLACE: Via Teleconference, Public Dial In: 1-(800) 967-7154, Conference ID # 150-561.

Meeting Agenda

This meeting is open to the public, except where noted otherwise.

I. Program Planning

II. Discussion and Approval of Part B: Findings and Recommendations for the 2013 Statutory Enforcement Report—Sexual Assault in the Military

III. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: July 12, 2013.
David Mussatt,
Acting RPCU Chief.

[FR Doc. 2013-17207 Filed 7-15-13; 11:15 am]

BILLING CODE 6335-01-P